DEPARTMENT OF TRANSPORTATION

Federal Aviation Administration

14 CFR Part 39

[Docket No. 2001-NM-136-AD; Amendment 39-12369; AD 2001-16-01]

RIN 2120-AA64

Airworthiness Directives; Airbus Model A330-301, -321, -322, -341, and -342 Series Airplanes, and Model A340 Series Airplanes

AGENCY: Federal Aviation Administration, DOT.

ACTION: Final rule; request for comments.

SUMMARY: This amendment adopts a new airworthiness directive (AD) that is applicable to certain Airbus Model A330-301, -321, -322, -341, and -342 series airplanes, and certain Model A340 series airplanes. This action requires repetitive inspections to detect cracking of the aft cargo compartment door, and corrective action if necessary. This action also provides for optional terminating action for the repetitive inspections. This action is necessary to detect and correct cracking of the aft cargo compartment door, which could result in reduced structural integrity of the airplane. This action is intended to address the identified unsafe condition.

DATES: Effective August 21, 2001.

The incorporation by reference of certain publications listed in the regulations is approved by the Director of the Federal Register as of August 21, 2001.

Comments for inclusion in the Rules Docket must be received on or before September 5, 2001.

ADDRESSES: Submit comments in triplicate to the Federal Aviation Administration (FAA), Transport Airplane Directorate, ANM-114, Attention: Rules Docket 2001-NM-136-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-136-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The Direction Générale de l'Aviation Civile (DGAC), which is the airworthiness authority for France, notified the FAA that an unsafe condition may exist on certain Airbus Model A330-301, -321, -322, -341, and -342 series airplanes, and certain Model A340 series airplanes. The DGAC advises that, during fatigue tests, cracking was found in several structural parts of the aft cargo compartment door. The cracking was detected between 42,944 and 67,605 simulated flights. This condition, if not corrected, could result in reduced structural integrity of the airplane.

Explanation of Relevant Service Information

Airbus has issued Service Bulletins A330-52-3043 (for Model A330 series airplanes) and A340-52-4053 (for Model A340 series airplanes), both dated March 2, 2001. The service bulletins describe procedures for repetitive detailed visual inspections to detect cracking of the aft cargo compartment door, and corrective action, if necessary. The DGAC classified this service bulletin as mandatory and issued French airworthiness directives 2001-126(B) and 2001-124(B), both dated April 4, 2001, to ensure the continued airworthiness of these airplanes in France.

Airbus has also issued Service Bulletins A330-52-3044 (for Model A330 series airplanes) and A340-52-4054 (for Model A340 series airplanes), both dated March 2, 2001. These service bulletins describe procedures to modify the aft cargo compartment door. The modification involves either cold expanding the fastener holes and installing interference fit fasteners, or reinforcing the affected area. Accomplishment of the modification eliminates the need to continue the repetitive inspections.

FAA's Conclusions

These airplane models are manufactured in France and are type certificated for operation in the United States under the provisions of § 21.29 of the Federal Aviation Regulations (14 CFR 21.19) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of the Rule

Since an unsafe condition has been identified that is likely to exist or develop on other airplanes of the same type design that may be registered in the United States at some time in the future, this AD is being issued to detect and correct cracking of the aft cargo compartment door, which could result in reduced structural integrity of the airplane. This AD requires accomplishment of the actions specified in Service Bulletins A330-52-3043 and A340-52-4053, except as discussed below in “Differences Between the AD and the Service Bulletins.” This AD also provides for optional terminating action for the repetitive inspections.

Operators should note that, to be consistent with the findings of the DGAC, the FAA has determined that the repetitive inspections required by this AD can be allowed to continue in lieu of accomplishment of a terminating action. Additionally, the FAA has determined that, for certain instances where cracking is detected, the repair may be deferred for a specified period of time. In making these determinations, the FAA considers that, in the case of this AD, long-term continued operational safety will be adequately assured by accomplishing the repetitive inspections to detect cracking before it represents a hazard to the airplane, and by accomplishing repairs within the specified time limits.

Interim Action

This is considered to be interim action until final action is identified, at which time the FAA may consider further rulemaking.

Differences Between the AD and the Service Bulletins

Although Service Bulletins A330-52-3043 and A340-52-4053 specify that the manufacturer may be contacted for disposition of certain repair conditions, this AD requires the repair of those conditions to be accomplished in accordance with a method approved by either the FAA or the DGAC (or its delegated agent). In light of the type of repair that would be required to address the identified unsafe condition, and in consonance with existing bilateral airworthiness agreements, the FAA has determined that, for this AD, a repair approved by either the FAA or the DGAC would be acceptable for compliance with the requirements of this AD.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would take approximately 8 work hours to accomplish the required inspection, at an average labor rate of $60 per work hour. Based on these figures, the cost impact of this AD would be $480 per airplane, per inspection cycle.

Should an operator elect to accomplish the optional terminating action, the cost would vary depending on the kit installed. It would take approximately 2 to 45 work hours to accomplish the modification, at an average labor rate of $60 per work hour. Required parts would cost approximately $60 to $5,010 per airplane. Based on these figures, the cost impact of this AD would be as little as $180, and as much as $7,710, per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2001-NM-136-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-16-01 Airbus Industrie: Amendment 39-12369. Docket 2001-NM-136-AD.

Applicability: The following airplanes, certificated in any category:

—Model A330-301, -321, -322, -341, and -342 series airplanes; excluding those that have received Airbus Modification 44852 (reference Airbus Service Bulletin A330-52-3044, dated March 2, 2001) or Airbus Modification 44854.

—Model A340 series airplanes, excluding those that have received Airbus Modification 44852 (reference Airbus Service Bulletin A340-52-4054, dated March 2, 2001) or Airbus Modification 44854.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To detect and correct cracking of the aft cargo compartment door, which could result in reduced structural integrity of the airplane, accomplish the following:

Inspection

(a) Before the accumulation of 12,000 total flight cycles, perform a detailed visual inspection to detect cracking of the aft cargo compartment door, in accordance with Airbus Service Bulletin A330-52-3043 (for Model A330 series airplanes) or A340-52-4053 (for Model A340 series airplanes), both dated March 2, 2001; as applicable. Perform applicable follow-on and corrective actions at the applicable threshold in accordance with the applicable service bulletin, except as required by paragraph (b) of this AD. Repeat the inspection thereafter at least every 4,000 flight cycles.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(b) If any crack is found during any inspection required by paragraph (a) of this AD, and the applicable service bulletin specifies to contact Airbus for appropriate action: Prior to further flight, repair per a method approved by either the Manager, International Branch, ANM-116, FAA, Transport Airplane Directorate; or the Direction Generale de l'Aviation Civile (DGAC) (or its delegated agent).

Optional Terminating Action

(c) Modification of the aft cargo compartment door terminates the repetitive inspections required by this AD, if the modification is accomplished in accordance with Airbus Service Bulletin A330-52-3044 (for Model A330 series airplanes) or A340-52-4054 (for Model A340 series airplanes), both dated March 2, 2001; as applicable.

Alternative Methods of Compliance

(d) An alternative method of compliance or adjustment of the compliance time that provides an acceptable level of safety may be used if approved by the Manager, International Branch, ANM-116. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with §§ sections 21.197 and 21.199 of the Federal Aviation Regulations (14 CFR 21.197 and 21.199) to operate the airplane to a location where the requirements of this AD can be accomplished.

Incorporation by Reference

(f) Except as required by paragraph (b) of this AD: The inspection must be done in accordance with Airbus Service Bulletin A330-52-3043, dated March 2, 2001; or Airbus Service Bulletin A340-52-4053, dated March 2, 2001; as applicable. The modification, if accomplished, must be done in accordance with Airbus Service Bulletin A330-52-3044, dated March 2, 2001; or Airbus Service Bulletin A340-52-4054, dated March 2, 2001; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directives 2001-126(B) and 2001-124(B), both dated April 4, 2001.

Effective Date

(g) This amendment becomes effective on August 21, 2001.

Issued in Renton, Washington, on July 26, 2001.
Vi L. Lipski,
Manager, Transport Airplane Directorate, Aircraft Certification Service.

[FR Doc. 01-19257 Filed 8-3-01; 8:45 am]

BILLING CODE 4910-13-U